Title 3—

The President

Proclamation 10466 of October 5, 2022

German-American Day, 2022

By the President of the United States of America

A Proclamation

Since 1683, when thirteen families arrived in Philadelphia and founded the first German settlement in North America, generations of Germans have put their faith in the promises of this land and set down roots in communities across this country. On German-American Day, we honor the German immigrants who added their dreams to the American story, and we celebrate their descendants who continue to nurture and enrich the soul of this Nation.

From championing the anti-slavery movement to helping establish the freedom of the press, from introducing the concept of kindergarten to advocating for universal education, and from inspiring the music we love to influencing the food we eat and beer we drink—German-Americans have strengthened our Nation's character and sustained our progress and prosperity. Today, they are leaders in every industry and every community, spearheading innovation and making essential contributions to our Nation's success.

On German-American Day, let us also reaffirm the United States' vital alliance with Germany and our enduring bonds to its people. As the closest of friends, the most reliable of partners, and strong NATO Allies, our countries work together around the world to advance our shared commitment to democratic principles, human rights, and the rules-based international order. Together, we will continue to stand against authoritarianism and advance freedom and opportunity for all people.

NOW, THEREFORE, I, JOSEPH R. BIDEN JR., President of the United States of America, do hereby proclaim October 6, 2022, as German-American Day. I urge all Americans to celebrate the rich and varied history of German-Americans and remember the many contributions they have made to our Nation.

IN WITNESS WHEREOF, I have hereunto set my hand this fifth day of October, in the year of our Lord two thousand twenty-two, and of the Independence of the United States of America the two hundred and forty-seventh.

[FR Doc. 2022-22128

Filed 10-6-22; 11:15 am]

Billing code 3395-F3-P